DEPARTMENT OF HOUSING AND URBAN DEVELOPMENT

[Docket No. FR-7001-N-51]

Notice of Proposed Information Collection to OMB: Emergency Comment Request, Indian Housing Block Grant (IHBG) Competitive Program

AGENCY: Office of the Chief Information Officer.

ACTION: Notice of proposed information collection.

SUMMARY: The proposed information collection requirement described below has been submitted to the Office of Management and Budget (OMB) for emergency review and approval, as required by the Paperwork Reduction Act. The Department is soliciting public comments on the subject proposal.

This is a request for approval to collect information from eligible applicants and recipients of Indian Housing Block Grants awarded on a competitive basis, as authorized under the Native American Housing and Self-Determination Act of 1996 (25 U.S.C. 4101 et seq.).

DATES: Comments Due Date: October 30, 2018.

ADDRESSES: Interested persons are invited to submit comments regarding this proposal. Comments must be received within 21 days from the date of this Notice. Comments should refer to the proposal by name and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street, SW, Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This Notice informs the public that the U.S. Department of Housing and Urban Development (HUD) has submitted to OMB, for emergency processing, a proposed information collection requirement as described below.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

A. Overview of Information Collection

Title of Information Collection: Indian Housing Block Grant (IHBG) Competitive Program.

OMB Approval Number: 2577-0218.

Type of Request: Revision of a currently approved collection.

Form Numbers: HUD-53246, HUD-53247, HUD-52737, HUD-4117, HUD-4119, HUD-52736-A, SF-424, HUD-2880, HUD-2993.

Description of the need for the information and proposed use: The purpose of this notice is to solicit public comment on the Notice of Funding Availability (NOFA), and two new forms (IHBG Cost Summary (HUD-53246), and IHBG Implementation Schedule (HUD-53247)) associated with the Indian Housing Block Grant Competitive program (IHBG Competitive).

In Fiscal Year 2018, Congress enacted H.R. 1625—Consolidated Appropriations Act, 2018 (Pub. L. 115-141) (Effective: 3/23/18) that appropriated $99,000,000 for IHBG Competitive funding awards under the Native American Housing Assistance and Self Determination Act (NAHASDA) of 1996 (25 U.S.C. 4101 et seq.). The Department will give priority to projects that will spur construction and rehabilitation from NAHASDA-eligible recipients while considering need and administrative capacity. Additionally, applicants may apply for other eligible activities under Section 202 of NAHASDA. Applicants for competitive IHBG funds are required to submit a grant application in response to a NOFA that includes a narrative response to the NOFA requirements, Application for Federal Assistance (SF-424), Applicant/Recipient Disclosure/Update Report (HUD-2880), Acknowledgement of Application Receipt (HUD-2993), IHBG Cost Summary (HUD-53246), and IHBG Implementation Schedule (HUD-53247). At the end of the 12-month program year, awardees are required to submit Annual Performance Reports (HUD-52737) that describe accomplishments, outcomes, and outputs. Note: The Annual Performance Report (HUD-52737) is not part of this information collection and displays a valid OMB Control Number through July 31, 2018.

The Department believes that the funding for IHBG Competitive meets the emergency processing criteria of 5 CFR 1320.13. The appropriations language meets the “unanticipated event” criteria of 5 CFR 1320.13 because this additional funding creates an entirely new competitive grant program to supplement the traditional formula-based block grant program of NAHASDA. Furthermore, the Department believes that the information collection associated with this competitive grant warrants emergency processing because following the regular PRA schedule would impede both the intent of this additional appropriation and HUD's goal to award funding to Native American communities in an expedited manner. The “Consolidated Appropriations Act of 2018” also directs the Department to give priority to projects that will “spur construction and rehabilitation for grantees” and the additional amount would “remain available until September 30, 2022.” For example, construction projects in Indian County can take three to five years from start to completion due to remote locations and complex land issues. Following an expedited emergency processing time frame would maximize the limited period of availability given by Congress for recipients to plan and implement projects as soon as possible.

Respondents: Native American Tribes, Alaska Native Villages and Corporations, and Tribally Designated Housing Entities.

Type of submission | Number of respondents | Frequency of submissions | Total responses | Estimate average time (hours) | Estimate annual burden (hours)
IHBG Competitive Program
IHBG Competitive Grant Application (Includes Narrative, SF-424, HUD-2880, HUD-2993, HUD-53246, HUD-53247) | 500 | 1 | 500 | 80 | 40,000
Annual Performance Report (HUD-52737) | 200 | 1 | 200 | 32 | 6,400
Subtotal | 700 |  | 700 |  | 46,400
IHBG Program
IHP/APR (HUD-52737) | 366 | 2 | 732 | 62 | 45,384
Formula Correction (HUD-4117) | 300 | 1 | 300 | 0.5 | 150
Formula Challenge (HUD-4119) | 15 | 1 | 15 | 150 | 2,250
Depository Agreement (Banker) (HUD-52736-A) | 366 | 1 | 366 | 0.25 | 91.5
Depository Agreement (Broker) (HUD-52736-B) | 366 | 1 | 366 | 0.25 | 91.5
Subtotal | 366 |  | 1,779 |  | 47,967
Grand Total | 1,066 |  | 2,479 |  | 94,367

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35 as amended.

Dated: September 26, 2018.
Colette Pollard,
Department Reports Management Officer, Office of the Chief Information Officer.

[FR Doc. 2018-21860 Filed 10-5-18; 8:45 am]

BILLING CODE 4210-67-P